FEDERAL COMMUNICATIONS COMMISSION

[WC Docket No. 05-337 and CC Docket No. 96-45; FCC 06J-1]

Federal-State Joint Board on Universal Service Seeks Comment on the Merits of Using Auctions To Determine High-Cost Universal Service Support

AGENCY: Federal Communications Commission.

ACTION: Notice; solicitation of comments.

SUMMARY: In this document, the Federal-State Joint Board on Universal Service seeks comment on the use of reverse auctions (competitive bidding) to determine high cost universal service funding to eligible telecommunications carriers pursuant to section 254 of the Communications Act of 1934, as amended.

DATES: Comments are due on or before October 10, 2006. Reply comments are due on or before November 8, 2006.

ADDRESSES: Federal Communications Commission, 445 12th Street, SW., Washington, DC 20554. See Supplementary Information for further filing instructions.

FOR FURTHER INFORMATION CONTACT: Ian Dillner, Office of Commissioner Tate, (202) 418-2500, or Thomas Buckley, Wireline Competition Bureau, (202) 418-7400.

SUPPLEMENTARY INFORMATION: This is a summary of Federal-State Joint Board on Universal Service Seeks Comment on the Merits of Using Auctions to Determine High-Cost Universal Service Support, WC Docket No. 05-337 and CC Docket No. 96-45, FCC 06J-1, released August 11, 2006. In this Public Notice, the Federal-State Joint Board on Universal Service (Joint Board) invites parties to comment on the use of reverse auctions (competitive bidding) to determine high cost universal service funding for eligible telecommunications carriers pursuant to section 254 of the Communications Act of 1934, as amended (the Act). The Joint Board, among other things, asks that interested parties provide comment regarding whether and how competitive bidding could be utilized to further the goals of the Act and the Commission's universal service goals. In particular, the Joint Board seeks comment on a variety of issues concerning competitive bidding, including the appropriateness of using auctions as part of the universal service program, as well as legal issues concerning such a methodology. The Joint Board further encourages parties to submit specific, comprehensive auction proposals, in addition to auction proposals that have been referenced in past Commission universal service proceedings. The Joint Board also seeks comment on how competitive bidding could be utilized to further address any other criteria or issues related to the receipt of universal service support described in the Joint Board's August 2004 Public Notice, 69 FR 53917, September 3, 2004. Commenters are further invited to supplement the record with respect to any additional issues or facts that have been raised since previous comment periods closed in this proceeding.

Comment Filing Procedures

1. Pursuant to §§ 1.415 and 1.419 of the Commission's rules, 47 CFR §§ 1.415, 1.419, interested parties may file comments are due on or before October 10, 2006 and reply comments are due on or before November 8, 2006. Comments should be filed in WC Docket No. 05-337 only. Comments may be filed using: (1) The Commission's Electronic Comment Filing System (ECFS), (2) the Federal Government's eRulemaking Portal, or (3) by filing paper copies. See Electronic Filing of Documents in Rulemaking Proceedings, 63 FR 24121, May 1, 1998.

2. Electronic Filers: Comments may be filed electronically using the Internet by accessing the ECFS: http://www.fcc.gov/cgb/ecfs/ or the Federal eRulemaking Portal: http://www.regulations.gov.

3. Filers should follow the instructions provided on the Web site for submitting comments.

4. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs.@fcc.gov, and include the following words in the body of the message, “get form.” A sample form and directions will be sent in response.

5. Paper Filers: Parties who choose to file by paper must file an original and four copies of each filing. If more than one docket or rulemaking number appears in the caption of this proceeding, filers must submit two additional copies for each additional docket or rulemaking number.

6. Filings can be sent by hand or messenger delivery, by commercial overnight courier, or by first-class or overnight U.S. Postal Service mail (although we continue to experience delays in receiving U.S. Postal Service mail). All filings must be addressed to the Commission's Secretary, Office of the Secretary, Federal Communications Commission.

7. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

8. Commercial overnight mail (other than U.S. Postal Service Express Mail and Priority Mail) must be sent to 9300 East Hampton Drive, Capitol Heights, MD 20743.

9. U.S. Postal Service first-class, Express, and Priority mail should be addressed to 445 12th Street, SW., Washington, DC 20554.

10. People With Disabilities: To request materials in accessible formats for people with disabilities (braille, large print, electronic files, audio format), send an e-mail to fcc502@fcc.gov or call the Consumer & Governmental Affairs Bureau at 202-418-0530 (voice), 202-418-0432 (TTY).

11. In addition, one copy of each pleading must be sent to the Commission's duplicating contractor, Best Copy and Printing, Inc, 445 12th Street, SW., Room CY-B402, Washington, DC 20554; Web site: www.bcpiweb.com; phone: 1-800-378-3160; Antoinette Stevens, Telecommunications Access Policy Division, Wireline Competition Bureau, 445 12th Street, SW., Room 5-B540, Washington, DC 20554; e-mail: Antoinette.Stevens.@fcc.gov.

12. Filings and comments are also available for public inspection and copying during regular business hours at the FCC Reference Information Center, Portals II, 445 12th Street, SW., Room CY-A257, Washington, DC 20554. Copies may also be purchased from the Commission's duplicating contractor, BCPI, 445 12th Street, SW., Room CY-B402, Washington, DC 20554. Customers may contact BCPI through its Web site: www.bcipweb.com, by e-mail at fcc@bcpiweb.com, by telephone at (202) 488-5300 or (800) 378-3160, or by facsimile at (202) 488-5563.

Federal Communications Commission.
Marlene H. Dortch,
Secretary.

[FR Doc. 06-7161 Filed 8-24-06; 8:45 am]

BILLING CODE 6712-01-M